INTERNATIONAL TRADE COMMISSION

[Investigation No. 337-TA-654]

In the Matter of Certain Peripheral Devices and Components Thereof and Products Containing Same; Notice of Commission Determination Not To Review an Initial Determination Granting a Joint Motion To Terminate the Investigation in Its Entirety on the Basis of Settlement and Terminating the Investigation

AGENCY: U.S. International Trade Commission.

ACTION: Notice.

SUMMARY: Notice is hereby given that the U.S. International Trade Commission has determined not to review an initial determination (“ID”) (Order No. 4) issued by the presiding administrative law judge (“ALJ”) terminating the above-captioned investigation in its entirety based upon a settlement agreement.

FOR FURTHER INFORMATION CONTACT: Michelle Walters, Office of the General Counsel, U.S. International Trade Commission, 500 E Street, SW., Washington, DC 20436, telephone (202) 708-5468. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on September 3, 2008, based on a complaint filed by Microsoft Corp. (“Microsoft”). The complaint alleged violations of section 337 of the Tariff Act of 1930 (19 U.S.C. 1337) in the importation into the United States, the sale for importation, and the sale within the United States after importation of certain peripheral devices, components thereof, and products containing the same by reason of infringement of various claims of seven United States patents. The complaint named Primax Electronics Ltd. (“Primax”) as the sole respondent.

On December 15, 2008, complainant Microsoft and respondent Primax filed a joint motion to terminate the investigation in its entirety based on a settlement agreement. On December 23, 2008, the Commission investigative attorney filed a response in support of the motion.

On January 5, 2009, the ALJ issued the subject ID, granting the joint motion to terminate the investigation on the basis of the settlement agreement. No petitions for review were filed.

The Commission has determined not to review the subject ID. The investigation is terminated.

The authority for the Commission's determination is contained in section 337 of the Tariff Act of 1930, as amended (19 U.S.C. 1337), and in section 210.42 of the Commission's Rules of Practice and Procedure (19 CFR 210.42).

Issued: January 29, 2009.
By order of the Commission.
Marilyn R. Abbott,
Secretary to the Commission.

[FR Doc. E9-2404 Filed 2-4-09; 8:45 am]

BILLING CODE 7020-02-P